DEPARTMENT OF TRANSPORTATION

Federal Aviation Administration

Fourth Meeting: RTCA Special Committee 203/Minimum Performance Standards for Unmanned Aircraft systems and Unmanned Aircraft

AGENCY: Federal Aviation Administration (FAA), DOT.

ACTION: Notice of RTCA Special Committee 203, Minimum Performance Standards for Unmanned Aircraft Systems and Unmanned Aircraft

SUMMARY: The FAA is issuing this notice to advise the public of a meeting of RTCA Special Committee 203, Minimum Performance Standards for Unmanned Aircraft Systems and Unmanned Aircraft

DATES: The meeting will be held September 13-16, 2005 starting at 9 a.m.

ADDRESSES: The meeting will be held at RTCA, 1828 L Street NW., Suite 805, Washington, DC 20036.

FOR FURTHER INFORMATION CONTACT: (1) RTCA Secretariat, 1828 I Street, NW., Suite 805, Washington, DC 20036; telephone (202) 833-9339; fax (202) 833-9434; web site http://www.rtca.org.

SUPPLEMENTARY INFORMATION: Pursuant to section 10(a)(2) of the Federal Advisory Committee Act (P.L. 92-463, 5 U.S.C., Appendix 2), notice is hereby given for a Special Committee 203 meeting. The agenda will include:

• September 13:

• Opening Special Session—Co-Chairman's Introductory Remarks

• “FAA Certification Process Review” James Sizemore, FAA Certification Division, AIR-130

• “UAV Operations” Thomas Bachman, AAI Corporation

• “Operating in Today's NAS—AOPA Ground School” Randy Kenagy, AOPA

• Sub-Group Writing Teams in working sessions

• September 14:

• Opening Plenary Session (Welcome and Introductory Remarks, Approval of Third Plenary Summary, Review SC-203 Progress Since Third Plenary, New Business, Plenary Adjourns)

• Sub-Group Writing Teams in working sessions

• September 15:

• Sub-Group Writing Teams in working sessions

• September 16:

• Sub-Group Writing Teams in working sessions

• Closing Plenary Session (Writing Teams Report Out, Review Writing Team Actions Items, Other Business, Date and Place of Next Meeting, Review Plenary Action Items, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on August 22, 2005.
Natalie Ogletree,
FAA General Engineer, RTCA Advisory Committee.

[FR Doc. 05-17209 Filed 8-29-05; 8:45 am]

BILLING CODE 4910-13-M